DEPARTMENT OF DEFENSE

Office of the Secretary

Meeting of the Defense Department Advisory Committee on Women in the Services (DACOWITS)

AGENCY: Department of Defense, DoD.

ACTION: Notice.

SUMMARY: Pursuant to Section 10(a), Public Law 92-463, as amended, notice is hereby given of a forthcoming meeting of the Defense Department Advisory Committee on Women in the Services (DACOWITS). The purpose of the meeting is for the Committee to receive briefings from the Sexual Assault Prevention and Response Office on their annual report results and comments on the FY11 NDAA. The Defense Manpower Data Center will give the Committee a briefing on the results of their Workplace and Gender Relations survey. Additionally, the Committee will also receive a status update briefing from the Navy on the integration of women into submarines. Finally, OUSD Military Personnel Policy will brief on the laws and policies that restrict the service of female members and the plans for a new Working Group on women's issues. The meeting is open to the public, subject to the availability of space.

DATES: June 28, 2011, 8:30 a.m.-5 p.m.

ADDRESSES: Residence Inn Marriott, 550 Army Navy Dr., Arlington, VA 22202.

FOR FURTHER INFORMATION CONTACT: MSgt Robert Bowling, USAF, or DACOWITS, 4000 Defense Pentagon, Room 2C548A, Washington, DC 20301-4000. Robert.bowling@osd.mil. Telephone (703) 697-2122. Fax (703) 614-6233.

SUPPLEMENTARY INFORMATION:

Meeting Agenda

Tuesday, 28 June 2011, 8:30 a.m.-5 p.m.

—Welcome, introductions, and announcements.

—Receive briefings from the Sexual Assault Prevention and Response Office on 2010 Reports and FY11 NDAA.

—Receive briefing from Defense Manpower Data Center on survey results on 2010 workplace and gender relations.

—Receive briefing from Navy on the status of integration of women into submarines.

—Receive briefings from OUSD Military Personnel Policy on laws and policies restricting service of female service members and plans on Working Group on women's issues.

—Public Forum.

Interested persons may submit a written statement for consideration by the Defense Department Advisory Committee on Women in the Services. Individuals submitting a written statement must submit their statement to the Point of Contact listed below at the address detailed in FOR FURTHER INFORMATION CONTACT no later than 5 p.m., Friday, June 24, 2011. If a written statement is not received by Friday, June 24, 2011, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Tuesday, June 28, 2011 from 4:15 p.m. to 5 p.m. before the full Committee. Number of oral presentations to be made will depend on the number of requests received from members of the public.

Dated: May 26, 2011.
Aaron Siegel,
Alternate OSD Federal Register Liaison, Department of Defense.

[FR Doc. 2011-13875 Filed 6-3-11; 8:45 am]

BILLING CODE 5001-06-P